DEPARTMENT OF AGRICULTURE

Rural Utilities Service

[Docket Number: RUS-21-WATER-0002]

Information Collection Activity; Comment Request

AGENCY: Rural Utilities Service, USDA.

ACTION: Notice and request for comments.

SUMMARY: In accordance with the Paperwork Reduction Act of 1995, the Rural Utilities Service (RUS) invites comments on the following information collection for which RUS intends to request approval from the Office of Management and Budget (OMB).

DATES: Comments on this notice must be received by April 12, 2021.

FOR FURTHER INFORMATION CONTACT: Taylor Marable, Community Program Specialist, Rural Utilities Service, Tennessee State Office, 441 Donelson Pike, Suite 310, Nashville, TN, 37214. Telephone: (615) 783-1300. Fax: (855) 776-7057 or email taylor.marable@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for revision.

Comments are invited on: (a) Whether the proposed collection of information is necessary for the proper performance of the functions of the Agency, including whether the information will have practical utility; (b) the accuracy of the Agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology.

Comments may be sent through the Federal eRulemaking Portal: Go to http://www.regulations.gov and, in the “Search” box, enter the Docket ID No “RUS-21-WATER-0002” to submit or view public comments and to view supporting and related materials available electronically. Information on using Regulations.gov, including instructions for accessing documents, submitting comments, and viewing the docket after the close of the comment period, is available through the site's “Help” button at the top of the page.

Title: Water and Waste Loan and Grant Program.

OMB Control Number: 0572-0121.

Expiration date of Approval: May 21, 2021.

Type of Request: Revision of a currently approved collection.

Abstract: USDA Rural Development, through the Rural Utilities Service, is authorized by Section 306 of the Consolidated Farm and Rural Development Act (7 U.S.C. 1926) to make loans to public agencies, nonprofit corporations, and Indian Tribes to fund water and waste disposal projects serving the most financially needy rural communities through the Water and Waste Disposal loan and grant program. Financial assistance should result in reasonable user costs for rural residents, rural businesses, and other rural users. The program is limited to rural areas and small towns with a population of 10,000 or less. The Water and Waste Loan and Grant Program is administered through 7 CFR part 1780. The items covered by this collection include forms and related documentation to support a loan application.

Estimate of Burden: Public reporting burden for this collection of information is estimated to average 2.64 hours per response.

Respondents: Not-for-profit institutions; State, Local or Tribal Government.

Estimated Number of Respondents: 896.

Estimated Number of Responses: 61,782.

Estimated Number of Responses per Respondent: 68.

Estimated Total Annual Burden on Respondents: 163,203 hours.

Copies of this information collection can be obtained from Lynn Gilbert, Regulations Management Division, at (202) 690-2682 or email: lynn.gilbert@usda.gov All responses to this notice will be summarized and included in the request for OMB approval. All comments will also become a matter of public record.

Christopher A. McLean,
Acting Administrator, Rural Utilities Service.

[FR Doc. 2021-02601 Filed 2-8-21; 8:45 am]

BILLING CODE 3410-15-P